DEPARTMENT OF COMMERCE

Foreign-Trade Zones Board

[S-106-2018]

Approval of Subzone Status; Liquilux Gas Corporation; Ponce, Puerto Rico

On July 27, 2018, the Executive Secretary of the Foreign-Trade Zones (FTZ) Board docketed an application submitted by CODEZOL, C.D., grantee of FTZ 163, requesting subzone status subject to the existing activation limit of FTZ 163, on behalf of Liquilux Gas Corporation, in Ponce, Puerto Rico.

The application was processed in accordance with the FTZ Act and Regulations, including notice in the Federal Register inviting public comment (83 FR 37462-37463, August 1, 2018). The FTZ staff examiner reviewed the application and determined that it meets the criteria for approval.

Pursuant to the authority delegated to the FTZ Board's Executive Secretary (15 CFR Sec. 400.36(f)), the application to establish Subzone 163K was approved on October 22, 2018, subject to the FTZ Act and the Board's regulations, including Section 400.13, and further subject to FTZ 163's 917.36-acre activation limit.

Dated: October 22, 2018.
Andrew McGilvray,
Executive Secretary.

[FR Doc. 2018-23456 Filed 10-25-18; 8:45 am]

BILLING CODE 3510-DS-P